ENVIRONMENTAL PROTECTION AGENCY

40 CFR Part 52

[EPA-R01-OAR-2025-0196; FRL-12890-02-R1]

Air Plan Approval; Connecticut; State Implementation Plan Revisions Required as a Result of a Definition Change Due to the Ozone Reclassification

AGENCY: Environmental Protection Agency (EPA).

ACTION: Final rule.

SUMMARY: The Environmental Protection Agency (EPA) is approving a State Implementation Plan (SIP) revision submitted by the State of Connecticut. This action consists of revisions to Regulations of Connecticut State Agencies (RCSA) sections 22a-174-22e and 22a-174-22f, primarily to add compliance dates for sources brought into the applicability of these sections due to a change in the definition of “severe non-attainment area for ozone.” The definition change had previously been approved into Connecticut's SIP. This action is being taken in accordance with the Clean Air Act.

DATES: This rule is effective on March 30, 2026.

ADDRESSES: EPA has established a docket for this action under Docket Identification No. EPA-R01-OAR-2025-0196. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that, if possible, you contact the contact listed in the FOR FURTHER INFORMATION CONTACT section to schedule your inspection.

FOR FURTHER INFORMATION CONTACT: John Creilson, Air Quality Branch, U.S. Environmental Protection Agency, EPA New England Regional Office, 5 Post Office Square, Suite 100 (mail code 5-MI), Boston, MA 02109-3912, telephone number (617) 918-1688, email creilson.john@epa.gov.

SUPPLEMENTARY INFORMATION: Throughout this document whenever “we,” “us,” or “our” is used, we mean EPA.

Table of Contents

I. Background and Purpose

II. Response to Comments

III. Final Action

IV. Incorporation by Reference

V. Statutory and Executive Order Reviews

I. Background and Purpose

On July 16, 2025, the Environmental Protection Agency (EPA) published a Notice of Proposed Rulemaking (NPRM) for the State of Connecticut proposing State Implementation Plan (SIP) revisions submitted by the State. 90 FR 31924. The formal SIP action was submitted by Connecticut on November 27, 2023, and consisted of revisions to Regulations of Connecticut State Agencies (RCSA) sections 22a-174-22e and 22a-174-22f, primarily to add compliance dates for sources brought into the applicability of these sections due to a change in the definition of “severe non-attainment area for ozone” in another section of Connecticut's regulations—specifically, RCSA § 22a-174-1. The revisions to RCSA §§ 22a-174-22e and 22a-174-22f became effective on November 13, 2023. Connecticut's change to the definition of “severe non-attainment area for ozone” in RCSA § 22a-174-1 became effective the same day, and the EPA previously approved the new definition into the SIP on February 12, 2024. 89 FR 9771. This action will ensure that Connecticut is applying reasonably available control technology (RACT) requirements and other nitrogen oxides (NOX) control requirements to the appropriate sources in the state, thereby meeting nonattainment requirements for ozone as set out in Section 182(d) of the Clean Air Act (CAA). The evaluation and rationale for EPA's proposed action are explained in the NPRM and will not be restated here. One public comment was received on the NPRM.

II. Response to Comments

EPA received one comment during the comment period, which is available in the docket of this rulemaking. The commenter supports “bringing these sources under RACT requirements to . . . help the region attain ozone standards” but notes that Connecticut and the EPA did “not explicitly consider the potential impact on carbon dioxide (CO2) emissions.” According to the commenter, some NOX control technologies may result in increased greenhouse gas (GHGs) emissions, and the agency should “ensure that the benefit of reduced NOX emissions outweighs any harm caused by a potential increase in CO2 emissions.”

While the EPA appreciates the commenter's support for attaining ozone standards in southwestern Connecticut, the comment does not explain how the Clean Air Act or other applicable law require the additional analysis called for in the comment. EPA reviews a state's submittal for compliance with Clean Air Act requirements, and EPA is required to approve a SIP revision that complies with those requirements. CAA § 110(k)(3); 40 CFR 52.02(a). As the comment recognizes, the revisions approved in this action result from the reclassification of the Connecticut portion of the NY-NJ-Connecticut ozone nonattainment area to “severe” for the 2008 ozone NAAQS and the need to conform the state's regulatory definition of “severe nonattainment area” to the boundaries of the Connecticut portion of the severe nonattainment area for that standard. The revisions do not revisit what technology(ies) constitutes RACT for the 2008 standard. Rather, the revisions recognize that the reclassification to severe nonattainment lowered the threshold for sources of NOX to which the existing regulations regarding NOX control must apply. See 42 U.S.C. 7511a(d), (f)(1). As a result, the revisions primarily add dates for such newly regulated sources to come into compliance.

As the EPA explained in the NPRM, the revisions are applicability related and will ensure that Connecticut is applying existing RACT requirements and other NOX control requirements to the appropriate sources in the state, thereby meeting nonattainment requirements for ozone as set out in Section 182(d) of the CAA. Accordingly, EPA is finalizing the action as proposed.

III. Final Action

The EPA is approving Connecticut's SIP revisions to RCSA sections 22a-174-22e and 22a-174-22f.

IV. Incorporation by Reference

In this rule, the EPA is finalizing regulatory text that includes incorporation by reference. In accordance with requirements of 1 CFR 51.5, the EPA is finalizing the incorporation by reference changes to Connecticut RCSA sections 22a-174-22e and 22a-174-22f as adopted on November 13, 2023, and described in the proposed amendments to 40 CFR part 52. The changes primarily add compliance dates for sources brought into the applicability of these sections due to a change in the definition of “severe non-attainment area for ozone.” The EPA has made, and will continue to make, these documents generally available through https://www.regulations.gov and at the EPA Region 1 Office (please contact the person identified in the FOR FURTHER INFORMATION CONTACT section of this preamble for more information). Therefore, these materials have been approved by EPA for inclusion in the State Implementation Plan, have been incorporated by reference by EPA into that plan, are fully federally enforceable under sections 110 and 113 of the CAA as of the effective date of the final rulemaking of EPA's approval, and will be incorporated by reference in the next update to the SIP compilation.¹

¹ 62 FR 27968 (May 22, 1997).

V. Statutory and Executive Order Reviews

Under the Clean Air Act, the Administrator is required to approve a SIP submission that complies with the provisions of the Clean Air Act and applicable Federal regulations. See 42 U.S.C. 7410(k); 40 CFR 52.02(a). Thus, in reviewing SIP submissions, EPA's role is to approve state choices, provided they meet the criteria of the Clean Air Act. Accordingly, this action merely approves state law as meeting Federal requirements and does not impose additional requirements beyond those imposed by state law. For that reason, this proposed action:

• Is not a significant regulatory action subject to review by the Office of Management and Budget under Executive Orders 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 27, 2026. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Nitrogen dioxide, Ozone, Reporting and recordkeeping requirements, Volatile organic compounds.

Authority: 42 U.S.C. 7401 et seq.

Dated: February 18, 2026.
Mark Sanborn,
Regional Administrator, EPA Region 1.

For the reasons stated in the preamble, the Environmental Protection Agency amends part 52 of chapter I, title 40 of the Code of Federal Regulations to read as follows:

PART 52—APPROVAL AND PROMULGATION OF IMPLEMENTATION PLANS

1. The authority citation for part 52 continues to read as follows:

Authority: 42 U.S.C. 7401 et seq.

Subpart H—Connecticut

2. In § 52.370(c), amend the table by revising the entries for state citations “22a-174-22e” and “22a-174-22f” to read as follows:

§ 52.370 Identification of plan.

* * * * *

(c) * * *

EPA-Approved Connecticut Regulations and Statutes
State citation | Title/subject | State effective date | EPA approval date ¹ | Explanations
* * * * * *
22a-174-22e | Control of nitrogen oxides emissions from fuel-burning equipment at major stationary sources of nitrogen oxides | 11/13/2023 | 2/26/2026, 91 FR [Insert Federal Register page where the document begins] | Amended subsections (a)-(j) and (l); and added subsection (n).
22a-174-22f | High daily NOX emitting units at non-major sources of NOX | 11/13/2023 | 2/26/2026, 91 FR [Insert Federal Register page where the document begins] | Amended subsection (e) by adding subdivision (5).
* * * * * *

* * * * *

[FR Doc. 2026-03887 Filed 2-25-26; 8:45 am]

BILLING CODE 6560-50-P